ENVIRONMENTAL PROTECTION AGENCY

40 CFR Part 60

[EPA-HQ-OAR-2007-1018; FRL-8556-3]

RIN 2060-AO41

New Source Performance Standards Review for Nonmetallic Mineral Processing Plants; and Amendment to Subpart UUU Applicability

AGENCY: Environmental Protection Agency (EPA).

ACTION: Proposed rule.

SUMMARY: EPA is proposing amendments to the Standards of Performance for Nonmetallic Mineral Processing Plant(s) (NMPP). These proposed amendments include proposed revisions to the emission limits for NMPP affected facilities which commence construction, modification, or reconstruction after today's date (referred to as “future” affected facilities in this preamble). These proposed amendments for NMPP also include additional testing and monitoring requirements for future affected facilities; exemption of affected facilities that process wet material from this proposed rule; changes to simplify the notification requirements for all affected facilities; and changes to definitions and various clarifications. EPA is also proposing an amendment to the Standards of Performance for Calciners and Dryers in Mineral Industries to address applicability of this proposed rule to thermal sand reclamation processes at metal foundries.

DATES: Comments must be received on or before June 23, 2008, unless a public hearing is requested by May 2, 2008. If a hearing is requested on this proposed rule, written comments must be received by June 6, 2008. Under the Paperwork Reduction Act, comments on the information collection provisions must be received by the Office of Management and Budget (OMB) on or before May 22, 2008.

ADDRESSES: Submit your comments, identified by Docket ID No. EPA-HQ-OAR-2007-1018, by one of the following methods:

• www.regulations.gov: Follow the on-line instructions for submitting comments.

• E-mail: a-and-r-docket@epa.gov.

• Fax: (202) 566-1741.

• Mail: U.S. Postal Service, send comments to: EPA Docket Center (6102T), New Source Performance Standards for Nonmetallic Mineral Processing Plants Docket, 1200 Pennsylvania Ave., NW., Washington, DC 20460. Please include a total of two copies. In addition, please mail a copy of your comments on the information collection provisions to the Office of Information and Regulatory Affairs, Office of Management and Budget (OMB), Attn: Desk Officer for EPA, 725 17th St., NW., Washington, DC 20503.

• Hand Delivery: In person or by courier, deliver comments to: EPA Docket Center (6102T), New Source Performance Standards for Nonmetallic Mineral Processing Plants Docket, EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2007-1018. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, Standards of Performance for Nonmetallic Mineral Processing Plants Docket, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Mr. Bill Neuffer, Office of Air Quality Planning and Standards, Sector Policies and Programs Division, Metals and Minerals Group (D243-02), Environmental Protection Agency, Research Triangle Park, NC 27711, telephone number: (919) 541-5435; fax number: (919) 541-3207; e-mail address: neuffer.bill@epa.gov.

SUPPLEMENTARY INFORMATION: The supplementary information presented in this preamble is organized as follows:

I. General Information

A. Does this action apply to me?

B. What should I consider as I prepare my comments to EPA?

C. Where can I get a copy of this document?

D. When would a public hearing occur?

II. Background Information on Subpart OOO

A. What is the statutory authority for these proposed amendments to subpart OOO?

B. What are the current NMPP NSPS?

III. Summary of these Proposed Amendments to Subpart OOO

IV. Rationale for These Proposed Amendments to Subpart OOO

A. How is EPA proposing to change the emission limits for future affected facilities?

B. How is EPA proposing to amend subpart OOO applicability and definitions?

C. How is EPA proposing to amend the testing requirements?

D. How is EPA proposing to amend the monitoring requirements?

E. How is EPA proposing to amend the notification, reporting and recordkeeping requirements?

V. Modification and Reconstruction Provisions

VI. Clarifications on Subpart OOO

VII. Summary of Cost, Environmental, Energy, and Economic Impacts of These Proposed Amendments to Subpart OOO

A. What are the impacts for NMPP?

B. What are the secondary impacts?

C. What are the economic impacts?

VIII. Proposed Amendment to Subpart UUU Applicability

IX. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution, or Use

I. National Technology Transfer Advancement Act

J. Executive Order 12898: Federal Actions to Address Environmental Justice in Minority Populations and Low-Income Populations

I. General Information

A. Does this action apply to me?

Categories and entities potentially regulated by these proposed amendments include:

Category | NAICS code¹ | Examples of regulated entities
Industry | 212311 | Dimension Stone Mining and Quarrying.
| 212312 | Crushed and Broken Limestone Mining and Quarrying.
| 212313 | Crushed and Broken Granite Mining and Quarrying.
| 212319 | Other Crushed and Broken Stone Mining and Quarrying.
| 212321 | Construction Sand and Gravel Mining.
| 212322 | Industrial Sand Mining.
| 212324 | Kaolin and Ball Clay Mining.
| 212325 | Clay and Ceramic and Refractory Minerals Mining.
| 212391 | Potash, Soda, and Borate Mineral Mining.
| 212393 | Other Chemical and Fertilizer Mineral Mining.
| 212399 | All Other Nonmetallic Mineral Mining.
| 221112 | Fossil-Fuel Electric Power Generation.
| 324121 | Asphalt Paving Mixture and Block Manufacturing.
| 327121 | Brick and Structural Clay Tile Manufacturing.
| 327122 | Ceramic Wall and Floor Tile Manufacturing.
| 327123 | Other Structural Clay Product Manufacturing.
| 327124 | Clay Refractory Manufacturing.
| 327310 | Cement Manufacturing.
| 327410 | Lime Manufacturing (Dolomite, Dead-burned, Manufacturing).
| 327420 | Gypsum Product Manufacturing.
| 327992 | Ground or Treated Mineral and Earth Manufacturing.
| 331111 | Steel Mills.
| 331511-513, 331521-522, 331524-525, and 331528 | Various metal foundries (e.g., iron, steel, aluminum, and copper)
Federal government |  | Not affected.
State/local/tribal government |  | Not affected.
¹ North American Industrial Classification System.

This table is not intended to be exhaustive, but rather provides a guide for readers regarding entities likely to be regulated by this action. To determine whether your facility would be regulated by this action, you should examine the applicability criteria in 40 CFR 60.670 (subpart OOO) or 40 CFR 60.730 (subpart UUU). If you have any questions regarding the applicability of this proposed action to a particular entity, contact the person listed in the preceding FOR FURTHER INFORMATION CONTACT section.

B. What should I consider as I prepare my comments to EPA?

Do not submit information containing CBI to EPA through www.regulations.gov or e-mail. Send or deliver information identified as CBI only to the following address: Roberto Morales, OAQPS Document Control Officer (C404-02), Office of Air Quality Planning and Standards, Environmental Protection Agency, Research Triangle Park, NC 27711, Attention: Docket ID No. EPA-HQ-OAR-2007-1018. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

C. Where can I get a copy of this document?

In addition to being available in the docket, an electronic copy of this proposed action is available on the Worldwide Web (WWW) through the Technology Transfer Network (TTN). Following signature, a copy of this proposed action will be posted on the TTN's policy and guidance page for newly proposed or promulgated rules at http://www.epa.gov/ttn/oarpg. The TTN provides information and technology exchange in various areas of air pollution control.

D. When would a public hearing occur?

If anyone contacts EPA requesting to speak at a public hearing by May 2, 2008, a public hearing will be held on May 7, 2008. Persons interested in presenting oral testimony or inquiring as to whether a public hearing is to be held should contact Mr. Bill Neuffer, listed in the FOR FURTHER INFORMATION CONTACT section, at least 2 days in advance of the hearing.

II. Background Information on Subpart OOO

A. What is the statutory authority for these proposed amendments to subpart OOO?

New source performance standards (NSPS) implement Clean Air Act (CAA) section 111(b) and are issued for categories of sources which cause, or contribute significantly to, air pollution which may reasonably be anticipated to endanger public health or welfare. The primary purpose of the NSPS is to attain and maintain ambient air quality by ensuring that the best demonstrated emission control technologies are installed as the industrial infrastructure is modernized. Since 1970, the NSPS have been successful in achieving long-term emissions reductions in numerous industries by assuring cost-effective controls are installed on new, reconstructed, or modified sources.

Section 111 of the CAA requires that NSPS reflect the application of the best system of emission reductions which (taking into consideration the cost of achieving such emission reductions, any non-air quality health and environmental impact and energy requirements) the Administrator determines has been adequately demonstrated. This level of control is commonly referred to as best demonstrated technology (BDT).

Section 111(b)(1)(B) of the CAA requires EPA to periodically review and revise the standards of performance, as necessary, to reflect improvements in methods for reducing emissions.

B. What are the current NMPP NSPS?

Standards of performance for NMPP (40 CFR part 60, subpart OOO) were promulgated in the Federal Register on August 1, 1985 (50 FR 31328). The first review of the NMPP NSPS was completed on June 9, 1997 (62 FR 31351).

The NMPP NSPS applies to new, modified, and reconstructed affected facilities at plants that process any of the following 18 nonmetallic minerals: crushed and broken stone, sand and gravel, clay, rock salt, gypsum, sodium compounds, pumice, gilsonite, talc and pyrophyllite, boron, barite, fluorospar, feldspar, diatomite, perlite, vermiculite, mica, and kyanite. The affected facilities are each crusher, grinding mill, screening operation, bucket elevator, belt conveyor, bagging operation, storage bin, and enclosed truck or railcar loading station. Unless otherwise noted, the terms “new” or “future” as used in this preamble include modified or reconstructed units.

III. Summary of These Proposed Amendments to Subpart OOO

The proposed amendments to subpart OOO of 40 CFR part 60 are summarized in Table 1 of this preamble.

Table 1.—Summary of These Proposed Amendments
Citation | Change
60.670(a)(2) | Exempt wet material processing operations; clarify rule does not apply to plants with no crushers or grinding mills.
60.670(d)(1) | Revise to clarify that like-for-like replacements that have no emissions increase are exempt from certain provisions.
60.670(f) | Revise to conform with amended Table 1 to subpart OOO.
60.671 | Add definitions of: Crush or crushing, saturated material, seasonal shut down, and wet material processing operations. Amend definition of “screening operation” to exempt static grizzlies.
60.672(a) and (b) | Revise to reference Tables 2 and 3 to subpart OOO and to better match General Provisions language regarding compliance dates. Tables 2 and 3 to subpart OOO contain revised emission limits and testing/monitoring requirements for future affected facilities.
60.672(c) | Reserve because superseded by Table 3 to subpart OOO.
60.672(e) | Revise cross-references. Replace Method 22 (40 CFR part 60, Appendix A-7) no visible emissions limit for building openings with 7 percent fugitive opacity limit.
60.672(f) and (g) | Consolidate paragraphs to refer to Table 2 to subpart OOO. Specify exemption from stack PM concentration limit and that 7 percent opacity limit applies for future individual enclosed storage bins.
60.672(h) and 60.675(h) | Remove 60.672(h) and reserve 60.675(h) because wet material processing exempted.
60.674 | Renumber (a) and (b) as (a)(1) and (2). Add periodic inspections for future wet suppression systems and future baghouse monitoring requirements (Method 22 visible emission inspections or use of bag leak detection systems).
60.675 and various other sections referencing test methods | Add text to clarify that the required EPA test methods are located in Appendices A-1 through A-7 of 40 CFR part 60 (formerly Appendix A of 60 CFR part 60).
60.675(b)(1) | Cross reference exceptions to Method 5 (40 CFR part 60, Appendix A-3) or Method 17 (40 CFR part 60, Appendix A-6).
60.675(c) | Correct cross reference to amended paragraph in (c)(1).
| Expand (c)(2) into subparagraphs (i) and (ii) to reduce the duration of Method 9 (40 CFR part 60, Appendix A-4) stack opacity observations for storage bins or enclosed truck or railcar loading stations operating for less than 1 hour at a time.
| Revise (c)(3) and delete (c)(4) to make the fugitive Method 9 testing duration 30 minutes and specify averaging time for all affected facilities.
60.675(d) | Specify performance testing requirements for the building fugitive emission limit. Allow prior Method 22 tests showing compliance with the former no VE limit.
60.675(e) | Add paragraph (e)(2) to allow Method 9 readings to be conducted on three emission points at one time if specified criteria are met.
| Add paragraph (e)(3) to allow Method 5I (40 CFR part 60, Appendix A-3) as an option for determining PM concentration from affected facilities that operate for less than 1 hour at a time.
| Add paragraph (e)(4) to address flow measurement from building vents with low exhaust gas velocity.
60.675(f) | Correct cross references.
60.675(g) | Revise to reduce 30-day advance notification time for Method 9 fugitive performance test to 7 days.
60.675(i) | Add section to state that initial performance test dates that fall during seasonal shut downs may be postponed no later than 60 days after resuming operation (with permitting authority approval).
60.676(b) | Add requirement to previously reserved paragraph (b) for recording periodic inspections of water sprays and baghouse monitoring for future affected facilities.
60.676(d) | Remove reference to upper limits on scrubber pressure and liquid flow rate.
60.676(f) and (g) | Edit to conform to wet material processing exemption and/or relevant opacity limits.
60.676(h) | Delete reference to now reserved 60.7(a)(2). Waive requirement to submit 60.7(a)(1) notification of the date construction or reconstruction commenced.
60.676(k) | Add section to state that notifications and reports need only be sent to the delegated authority (or the EPA Region when there is no delegated authority).
Table 1 to subpart OOO | Move to end of subpart OOO, shorten to include only exceptions to the General Provisions, and update comments.
Table 2 to subpart OOO | Add table to specify the stack PM limits and testing/monitoring requirements for current and future affected facilities.
Table 3 to subpart OOO | Add table to specify the fugitive opacity limits and testing/monitoring requirements for current and future affected facilities.

IV. Rationale for These Proposed Amendments to Subpart OOO

A. How is EPA proposing to change the emission limits for future affected facilities?

For “future” affected facilities constructed, modified, or reconstructed after today's date, we are proposing:

• To reduce the PM emission limits from 0.05 grams per dry standard cubic meter (g/dscm) (0.022 grains per dry standard cubic foot (gr/dscf)) to 0.02 g/dscm (0.014 gr/dscf) for affected facilities with capture systems (i.e., affected facilities that vent through stacks), and to eliminate the stack opacity limit for dry control devices; and

• To reduce the fugitive visible emission limits from 15 percent to 12 percent for crushers, and from 10 percent to 7 percent for grinding mills, screening operations, bucket elevators, belt conveyors, bagging operations, storage bins, and enclosed truck or railcar loading stations.

The emission limits for affected facilities constructed, modified, or reconstructed before today's date remain unchanged.

The 1985 promulgated NMPP NSPS are based on emission levels achieved using baghouse control or wet dust suppression techniques (see 50 FR 31329, August 1, 1985). Both systems were determined to be BDT for reasons discussed in the preamble to the 1983 proposed rule (see 48 FR 339569-39571, August 31, 1983). It was also noted in the 1983 proposal preamble that certain wet scrubbers could perform comparably to BDT. As part of our review of subpart OOO, we collected information through site visits, trade associations, and state agencies. The information and comments these stakeholders provided us on the current NSPS are contained in the docket. We reviewed numerous NMPP permits to identify emissions limits more stringent than subpart OOO (and to understand if limits more stringent than subpart OOO are commonplace or rare) and emissions test data from a number of sources (trade associations and state agencies). A summary of state permits and emissions test data are in the docket. Our review of permits and other available information in the record did not reveal any new or emerging pollution prevention measures or particulate matter (PM) control technologies in the non-metallic minerals industries for consideration as BDT. Consistent with the prior BDT determination, the vast majority of subpart OOO affected facilities subject to stack emission limits have baghouse controls. A number of wet scrubber controls were observed as well. The subpart OOO fugitive emission limits are most commonly met through use of wet suppression (as needed), water carryover, or with a partial enclosure. Wet dust suppression remains the method of choice for the vast majority of crushed stone and sand & gravel facilities. These BDT control systems achieve a reduction in PM10 and PM2.5 along with reduction in larger PM particle sizes.

The stack emissions data we reviewed included over 300 PM stack tests from 1990 and later for a variety of subpart OOO affected facilities and industries. A memorandum summarizing this test data is in the docket. Ninety-one percent of the PM stack test results achieved 0.014 gr/dscf. Consistent with our prior BDT determination, the control technologies used for the affected facilities tested included primarily baghouses and wet scrubbers designed to meet subpart OOO. The high percentage of affected facilities currently able to meet 0.014 gr/dscf using either baghouses or wet scrubbers supports our conclusion that an emission limit of 0.014 gr/dscf can be achieved by well-maintained and operated control systems. Further, the available information suggests that establishing emission limits below 0.014 gr/dscf would result in a level of control that may be difficult for some NMPP control systems to achieve on a continuous basis.

Some test results were above the limits under consideration but below the current NSPS limit of 0.022 gr/dscf. These units were considered as having marginal performance. The effect of reducing the stack PM limit would be to ensure that the typical performance of BDT control systems today is achieved for future affected facilities and that controls with marginal performance are not installed in the future.

Using the available information, we considered the incremental costs and emissions reductions for different levels of control to determine the appropriate stack emission limit representative of BDT for new, modified, and reconstructed affected facilities. The control systems that would be installed to meet the proposed limit of 0.014 would be the same as those installed to meet the current NSPS limit of 0.022 gr/dscf. Because there would be no change in control technology, we expect that the incremental costs would be very low or zero. However, limits below 0.014 gr/dscf may result in additional cost with little incremental emission reduction beyond that achieved by reducing the current limit (0.022 gr/dscf) to 0.014 gr/dscf. Therefore, we are proposing a PM limit of 0.014 gr/dscf as BDT for new, modified, and reconstructed affected facilities.

The purpose of the current 7 percent stack opacity limit in subpart OOO is to provide inspectors and plant personnel a measure of ongoing compliance for dry control devices (namely baghouses). We are proposing to replace the 7 percent stack opacity limit with quarterly monitoring of baghouses for future affected facilities. The monitoring requirements for baghouses would occur at specified intervals (as discussed below) and ensure proper operation and maintenance of future baghouses on an ongoing basis. Therefore, a stack opacity limit would no longer be needed for future affected facilities.

With respect to fugitive emissions, we looked at over 700 fugitive emissions test data points (maximum 6-minute opacity averages) for a variety of subpart OOO affected facilities and industries that do not vent through stacks. A memorandum summarizing this test data is in the docket. These data revealed that the vast majority of affected facilities perform better than the current fugitive emission limits of 15 percent opacity for crushers and 10 percent opacity for other affected facilities. For crushers, 93 percent of the data points were at or below 12 percent opacity. Ninety-five percent of the data points for other types of affected facilities were at or below 7 percent opacity. Therefore, we are proposing revised fugitive emissions limits of 12 percent for crushers and 7 percent for all other affected facilities, which can be met by future affected facilities employing the same control measures as are used on today's affected facilities (e.g., wet suppression, water carryover, and/or partial enclosures). The emission reduction associated with lowering the fugitive opacity limit is not quantifiable based on available information. Because the same control measures needed to meet the current NSPS would be employed to meet the revised NSPS, there would be no incremental cost associated with this proposed reduction in the fugitive opacity limits. The effect of lowering the opacity limits would be to ensure that any wet suppression or enclosure systems with marginal performance (compared to the current NSPS) would no longer be acceptable for future affected facilities.

Given the addition of revised limits to subpart OOO for affected facilities installed after today's date, we are proposing to revise § 60.672 to include two tables that present the subpart OOO emission limits. The proposed Table 2 to subpart OOO would present the stack emission limits for affected facilities with capture systems. Capture systems are defined in subpart OOO as equipment (e.g., enclosures, ducts, etc.) used to capture and transport PM emissions to a control device. The proposed Table 3 to subpart OOO would present the fugitive emission limits for affected facilities without capture systems (i.e., affected facilities that do not vent through stacks). We request comment on whether these tables improve the readability of subpart OOO and help to distinguish between the stack and fugitive emission limits.

Aside from the tables proposed to be added to subpart OOO, exemptions from selected emission limits would remain in the text of § 60.672. A footnote to the proposed Table 2 would direct readers to § 60.672 to review these exemptions. We are proposing to combine and revise former § 60.672 paragraphs (f) and (g) into one paragraph § 60.672(f) to clarify applicability of the PM emission limits to storage bins. Baghouses controlling individual enclosed storage bins are exempt from the stack PM concentration limit (but must meet the 7 percent stack opacity limit). However, baghouses controlling multiple storage bins are required to meet both the stack PM and opacity limits. We are retaining the 7 percent stack opacity limit for future baghouses controlling individual enclosed storage bins. In addition, we are also proposing to clarify in a footnote to Table 2 that the subpart OOO opacity limits do not apply for affected facilities controlled by wet scrubbers. Wet scrubbers are required to monitor scrubber pressure loss and scrubber liquid flow rate instead of opacity. Therefore, no initial opacity test is required by subpart OOO for wet scrubbers.

B. How is EPA proposing to amend subpart OOO applicability and definitions?

Wet material processing. We are proposing to add two definitions and to make other changes to exempt from subpart OOO wet material processing operations that have no potential for PM emissions. These types of operations were already exempted from the testing requirements of subpart OOO but remained subject to notification requirements and a no visible emissions (VE) limit (although no testing was required to demonstrate compliance with the no VE limit). Exempting wet material processing operations from this proposed rule altogether will reduce the burden associated with notifications and tracking of these operations as subpart OOO affected facilities with no requirements. We are proposing to define “wet material processing operations” similarly to how they were referred to before in subpart OOO. Wet material processing operations include: (a) Wet screening operations and subsequent screening operations, bucket elevators and belt conveyors in the production line that process saturated materials up to the first crusher, grinding mill or storage bin in the production line; or (b) screening operations, bucket elevators and belt conveyors in the production line downstream of wet mining operations that process saturated materials up to the first crusher, grinding mill or storage bin in the production line. Stakeholders have expressed concern that the term “saturated” is ambiguous and requested that we define that term. Therefore, we are also proposing to add a definition of “saturated material” to subpart OOO to describe the type of material intended to be exempted from this proposed rule. Through the definitions of “wet material processing operation” and “saturated material” (as well as other existing definitions of “wet mining operation” and “wet screening operation”), we intend to exempt from coverage under subpart OOO mineral material that is wet enough on its surface to remove the possibility of PM emissions being generated from processing of the material though screening operations, bucket elevators and belt conveyors. Material that is wetted solely by wet suppression systems designed to add surface moisture for dust control is not considered to be “saturated material” for purposes of this exemption. Examples of saturated material include slurries of water and mineral material, material that is wet as it enters the processing plant from the mine, material that is wet from washing, material with a high percentage of moisture (considering mineral type), etc. This exemption for wet material processing operations is limited to screening operations, bucket elevators and belt conveyors (i.e., belt conveyor transfer points) because crushing or grinding of mineral material can expose new dry surfaces that pose a potential for PM emissions and other affected facilities (bagging operations, storage bins, and enclosed truck or railcar loading stations) usually process only dry material.

Crushers. Industry representatives requested that we clarify the meaning of “crusher” and “grinding mill” by adding a definition of “crushing.” The new definition of “crushing” would help to clarify that crushers and grinding mills do not include equipment that simply breaks up clumps of material (e.g., certain deagglomerators or shredders processing material that has become stuck together during processing) but does not further reduce the size of the material. The current definition of “crusher” employs the word “crush” and the current definition of grinding mill uses the word “crushing.” To capture both terms, we are proposing to add a new definition: “Crush or crushing” which means to reduce the size of nonmetallic mineral material by means of physical impaction of the crusher or grinding mill upon the material.

Grizzlies. We are proposing to clarify that all grizzlies associated with truck dumping and static (non-agitating) grizzlies are not subpart OOO affected sources. Grizzlies can sometimes be confused with screening operations because they are used to separate larger material from smaller material. Grizzlies range from simple metal grates to equipment that agitates or vibrates material similarly to screening operations. Grizzlies are often associated with truck dumping, where a truck dumps material from the mine into the grizzly feeder. The grizzly feeder separates fines and smaller pieces of rock from larger material (e.g., boulders) that require initial crushing. Grizzly feeders associated with truck dumping are not subject to subpart OOO because § 60.672(d) states that, “Truck dumping of nonmetallic minerals into any screening operation, feed hopper, or crusher is exempt from the requirements of this section.” However, applicability of subpart OOO to grizzlies used elsewhere in NMPP has been less clear. Certain types of grizzlies (specifically metal grate grizzlies that do not mechanically agitate or vibrate the mineral material) are clearly different from screening operations. Therefore, we are proposing to amend the definition of screening operation to state that “Grizzly feeders associated with truck dumping and static (non-moving) grizzlies used anywhere in the nonmetallic mineral processing plant are not considered to be screening operations.”

C. How is EPA proposing to amend the testing requirements?

Repeat testing for future affected facilities. Subpart OOO currently requires NMPP to conduct an initial performance test to demonstrate compliance with the relevant stack or fugitive emission limits. Stack PM emissions are to be measured with EPA Method 5 (40 CFR part 60, Appendix A-3) or Method 17 (40 CFR part 60, Appendix A-6) and stack opacity must be measured with EPA Method 9 (40 CFR part 60, Appendix A-4). The opacity from affected facilities not venting through stacks must be measured with EPA Method 9 (though the duration of Method 9 readings is reduced in some cases as discussed below). Repeat performance tests currently are not required by subpart OOO, but may be required by permitting authorities for some NMPP. As part of an ongoing effort to improve compliance with various Federal air emission regulations, we are proposing to require repeat performance testing once every 5 years for future subpart OOO affected facilities that do not have ongoing monitoring requirements. Specifically, a repeat Method 9 test is proposed to be required for future affected facility fugitive emissions controlled by water carryover or other means. Repeat Method 9 tests are not being proposed for fugitive affected facilities with wet suppression water sprays because, (as discussed below) periodic inspections of the water spray nozzles are being proposed for these emission points.

The proposed repeat testing requirements appear in the proposed Table 3 to subpart OOO. We considered annual repeat testing and repeat testing every 5 years for stacks, but concluded that this would be overly burdensome given the number of affected facilities (including numerous small stacks) to be tested at NMPP. As discussed later, we are proposing ongoing monitoring requirements for future affected facilities that do not have repeat testing requirements to ensure that future control systems are properly operated and maintained over their useful life.

Fugitive Method 9 test duration. Subpart OOO currently requires initial Method 9 observations for affected facilities with fugitive emissions. As currently written, the duration of the Method 9 observations may be reduced from 3 hours to 1 hour if there are no individual readings greater than the applicable limit and if there are no more than three readings at the applicable limit during the 1-hour period. Stakeholders have expressed concern regarding the amount of time required to complete the initial Method 9 tests given the number of affected facilities at NMPP that require readings (e.g., numerous conveyor transfer points throughout the NMPP). The stakeholders also noted that in many cases the readings being recorded are all zeros. We have considered the Method 9 observation time in the context of the numerous fugitive affected facilities that require observations at NMPP and the other changes to testing requirements we are proposing today (i.e., addition of repeat testing requirements). We are proposing three amendments to the fugitive Method 9 testing provisions for all affected facilities to reduce the amount of time required for testing without sacrificing enforceability of the rule or air quality. First, we are removing the stipulations that could trigger a 3-hour test. Second, we are proposing to require a 30-minute fugitive Method 9 test duration (five 6-minute averages) for all affected facilities. Compliance with the applicable fugitive emissions limit would be based on the average of the five 6-minute averages recorded during the 30 minutes. Third, considering the number of affected facilities to be tested and the close proximity of some of these affected facilities to one another at NMPP plants, we are proposing to allow a single visible emission observer to conduct observations for up to three subpart OOO emission points at a time (including stack and vent emission points) provided that certain criteria are met (as proposed in § 60.675(e)(2)).

Storage bins and loading stations operating less than 1 hour at a time. Based on comments from stakeholders and our own review of emission test reports, we recognize that affected facilities such as storage bins (including silos) and loading stations may operate intermittently such that emissions testing for three 1 hour periods can be impractical in some instances. For example, storage bins may be filled for a time period of less than an hour and then filling stops for some time. Likewise, loading operations may operate for a short time and then cease operation. Some facilities have addressed these challenges during testing by filling and then emptying a storage bin, only to re-route the same material back into the bin. To provide some relief from this situation, we are proposing to add EPA Method 5I (40 CFR part 60, Appendix A-3)—“Determination of Low Level Particulate Matter Emissions from Stationary Sources” to subpart OOO as an optional test method that can be used instead of Methods 5 or 17. Method 5I is useful for low PM concentration applications, where the total PM catch is 50 milligrams or less. With Method 5I, the sample rate and total gas volume is adjusted based on the estimated grain loading of the emission point and the total sampling time is a function of the estimated mass of PM to be collected for the run. Thus, Method 5I can be used in situations where the minimum sampling volume of 60 dscf (required for Methods 5 and 17) cannot be obtained (e.g., for affected facilities that operate for less than 1 hour at a time). We are also proposing to reduce the Method 9 stack opacity test duration from 3 hours to the duration that the affected facility operates (but not less than 30 minutes) for baghouses that control storage bins or enclosed truck or railcar loading stations that operate for less than 1 hour at a time.

Buildings. Subpart OOO contains an optional compliance method for affected facilities inside of buildings. Rather than measuring the emissions from each affected facility within a building (which is sometimes difficult due to close equipment spacing and lighting), NMPP can opt to measure emissions from the building. Subpart OOO currently requires buildings to meet a zero VE limit (measured with EPA Method 22), and additionally requires the building vents to meet the stack PM concentration and opacity limits. During the NSPS review, stakeholders requested changes to the optional emission limits and testing procedures for buildings. Some stakeholders pointed out that noise barriers are very similar to buildings in that they enclose affected facilities and reduce or prevent fugitive emissions. We agree. Subpart OOO defines “building” as “any frame structure with a roof.” According to the definition of building, noise barriers resembling buildings with a roof would be considered as buildings. Stakeholders also requested that buildings housing affected facilities be subject to the same emission limits as the affected facilities in the buildings. The stakeholders believe that, as written now, subpart OOO is more stringent for affected facilities inside of buildings than for those located outside. Last, stakeholders noted difficulties with performing Method 5 emissions testing on building vents because building vents often have no stacks and/or low gas flow rates that are insufficient to meet isokinetic measurement requirements.

We have reviewed the current provisions relating to buildings and are proposing to apply a fugitive emission limit of 7 percent opacity (measured with EPA Method 9) at the inlet and outlet of buildings (or at other building openings except powered vents). Compliance with the 7 percent opacity limit would be demonstrated through initial testing. A repeat opacity test would be required (within 5 years from the previous test) for buildings housing any future affected facility. Buildings that demonstrated compliance with the Method 22 no VE limit through performance testing would not be required to be retested to show compliance with today's proposed Method 9 opacity limit unless a future affected facility is installed in the building. The applicable stack emission limits and testing/monitoring requirements from the proposed Table 2 to subpart OOO would continue to apply to powered building vents. We are proposing to add § 60.675(e) to provide an alternative procedure for determining building vent flow rate for building vents with flow too low to measure. We believe these changes will simplify the methodology used to demonstrate compliance with subpart OOO for buildings while ensuring that PM emissions from affected facilities remain adequately controlled.

Seasonal shut downs. Stakeholders representing the construction aggregate (i.e., crushed stone and construction sand and gravel) sector indicated that the initial performance test dates sometimes fall during seasonal plant closures. Consistent with the NSPS General Provisions, initial performance tests are required 60 calendar days after achieving maximum production but no later than 180 calendar days after initial startup of an affected facility. The stakeholders noted that aggregate plants often cease production during winter months when demand for construction aggregate is low. The current initial performance test dates based on calendar days can fall during these periods of seasonal shut down. Therefore, we are proposing to add § 60.675(j) to subpart OOO to allow plants to postpone initial performance testing until 60 calendar days after resuming operation following a seasonal shut down of an affected facility. Approval from the permitting authority would be required for postponing the initial compliance test (e.g., there should be some form of communication with the permitting authority to indicate the duration of the seasonal shut down of the affected facility) and to specify the revised deadline for the performance test. We consider a seasonal shut down to be at least 45 consecutive days of shut down of the affected facility and are proposing a definition to that effect. We are limiting the proposed postponing of performance tests to initial performance tests because repeat performance tests can be scheduled at a time the NMPP chooses within 5 years of the prior performance test.

D. How is EPA proposing to amend the monitoring requirements?

Monitoring for fugitive emissions limits. Fugitive emissions from subpart OOO affected facilities are often controlled by wet suppression. In wet suppression systems, water (and surfactant) is sprayed on nonmetallic minerals at various locations in the process line but not necessarily at every affected facility. Carryover of water sprayed at affected facilities upstream in the process line is often sufficient to control fugitive emissions from affected facilities downstream in the process. Partial enclosures or other means may also be used to reduce fugitive emissions in addition to water sprays or water carryover. We are proposing separate requirements to demonstrate ongoing compliance with the fugitive emission limits for future affected facilities where water is sprayed and for other future affected facilities (i.e., those controlled by water carryover or other means). As mentioned above, we are proposing a repeat Method 9 test (within 5 years from the previous performance test) for future affected facility fugitive emissions controlled by water carryover or other means. A repeat Method 9 test is not being proposed for fugitive affected facilities with water sprays. Instead we are proposing monthly periodic inspections of water sprays to ensure that water is flowing to the discharge water spray nozzles in the wet suppression system. If, during an inspection, you find that water is not flowing properly then you would be required to initiate corrective action within 24 hours. We are proposing the periodic inspections of water sprays as part of our ongoing effort to improve compliance with Federal air emission regulations such as subpart OOO. We believe that monthly inspections would ensure that subpart OOO wet suppression systems remain in good working order and provide the required control of fugitive emissions.

Baghouse monitoring. As mentioned previously, we are replacing the 7 percent stack opacity limit with ongoing monitoring for future baghouses. We believe the monitoring requirements of this proposed rule would be more effective in ensuring ongoing compliance with the PM limit than the current stack opacity limit (which has no associated repeat testing requirements) because this proposed monitoring would occur at regular intervals.

We are proposing two options for monitoring of future baghouses: (1) Quarterly visible emissions inspections, or (2) use of a bag leak detection system. The quarterly visible emissions inspections would be conducted using EPA Method 22 for 30 minutes. The visible emissions inspections would be successful if no visible emissions are observed. If any visible emissions are observed, then you would be required to initiate corrective action within 24 hours to restore the baghouse to normal operation. We believe it is unlikely, but if your baghouse normally displays some visible emissions, then you would be allowed to establish a different baghouse-specific success level for the visible emissions inspections (other than no visible emissions) by conducting a PM test simultaneously with a Method 22 test to determine what constitutes normal visible emissions from your baghouse when it is in compliance with the subpart OOO PM concentration limit. The revised visible emissions success level must be incorporated into your permit.

We are proposing to allow use of a bag leak detection system as an alternative to the periodic Method 22 visible emission inspections for baghouses controlling future affected facilities. The bag leak detection system must be installed and operated according to the proposed § 60.674(d).

Wet scrubber monitoring. Stakeholders requested that we remove the upper limits for wet scrubber operating parameters (pressure drop and liquid flow) referred to in § 60.676(d). Increases in these parameters would only increase scrubber PM removal efficiency. Therefore, we are proposing to revise § 60.676(d) to delete reference to scrubber pressure gain and the upper limit for scrubber liquid flow.

We are not proposing any further changes to the wet scrubber monitoring requirements at this time. However, the Agency is drafting Performance Specification 17 (PS-17) and Procedure 4 for continuous parameter monitoring systems (which include pressure and liquid flow measurements). Following proposal and public comment of PS-17 and Procedure 4, the procedures and requirements in PS-17 and Procedure 4 would supersede the wet scrubber monitoring language in subpart OOO for affected facilities with wet scrubbers installed after the proposal date of PS-17 and Procedure 4.

E. How is EPA proposing to amend the notification, reporting, and recordkeeping requirements?

Notifications and reports. We are proposing to simplify the notification requirements in subpart OOO in several ways. There are thousands of NMPP dispersed throughout the U.S. Given the number of affected facilities at each NMPP (e.g., individual crushers, screens, belt conveyor transfer points, etc.), notifications relating to every new affected facility result in volumes of paperwork for both NMPP and regulatory agencies. We believe these proposed changes to the notification requirements in subpart OOO would reduce the paperwork required for the numerous affected NMPP and regulatory personnel without sacrificing air quality.

First, § 60.676(h) of subpart OOO waived the former requirement in § 60.7(a)(2) of subpart A for notification of the anticipated date of initial startup. Section 60.7(a)(2) was reserved in a 1999 amendment to subpart A to reduce paperwork burden. We are proposing to delete reference to § 60.7(a)(2) in § 60.676(h) to be consistent with subpart A. We are also proposing new rule language for § 60.676(h) to waive the § 60.7(a)(1) (subpart A) requirement to submit a notification of commencement of construction/reconstruction for NMPP affected facilities. Non-metallic mineral processing plants are already required under State or Federal permit programs to obtain permits to construct and/or operate. In efforts to streamline the permitting process, many States have set up general permits for NMPP (e.g., crushed stone facilities) due to the large number of these facilities in most States. We believe the purpose of the § 60.7(a)(1) notification of commencement of construction/reconstruction for NMPP can be adequately served through the NMPP permitting process and the § 60.7(a)(3) (subpart A) notification of the actual date of initial startup. The § 60.7(a)(3) notification is needed and has been retained in subpart OOO because it is tied directly to the initial performance test date.

Second, due to the large number of affected facilities and associated notifications and reports, we are proposing to add a new § 60.676(k) to subpart OOO stating that notifications generated under subpart OOO are only to be sent to either the State (if the State is delegated authority to administer NSPS) or to the EPA Region (if the State has not been delegated authority), but not to both the State and EPA Region.

Third, we are proposing in § 60.675(g) to change the 30-day advance notification deadline (required in § 60.7(a)(6)) for performance tests involving only Method 9 to a 7-day advance notification. We are proposing this change because of the large number of NMPP that are required to conduct only Method 9 testing for fugitive emissions from affected facilities, because plans for NMPP Method 9 opacity readings require little review (if any), and because Method 9 tests are affected by weather (visibility) and subject to rescheduling such that a 30-day advanced notification can be impractical for NMPP. We are also proposing to remove the language in § 60.675(g) which specified when plants are to notify the Administrator of rescheduled test dates because the same language now appears in § 60.8(d) of subpart A following an amendment to § 60.8(d) promulgated in 1999.

Recordkeeping for future affected facilities. We are proposing to require NMPP to keep records of periodic inspections performed on water sprays (monthly checks that water is flowing) or baghouses (quarterly Method 22 readings) controlling future affected facilities. Each periodic inspection would be required to be recorded in a logbook which may be maintained in written or electronic format. The logbook entries would include inspection dates and any corrective actions taken. The logbook would be kept onsite and made available to the EPA or delegated authority upon request. Plants opting to use bag leak detection systems in lieu of periodic visible emissions inspections for baghouses would be required to keep the records specified in the proposed § 60.676(b)(2). According to § 60.7(f), records are required to be retained for a period of two years.

V. Modification and Reconstruction Provisions

Existing affected facilities that are modified or reconstructed would be subject to these proposed amendments for future affected facilities. Under CAA section 111(a)(4), “modification” means any physical change in, or change in the method of operation of, a stationary source which increases the amount of any air pollutant emitted by such source or which results in the emission of any air pollutant not previously emitted. Changes to an existing facility that do not result in an increase in emissions are not considered modifications.

Rebuilt affected facilities would become subject to the proposed standards under the reconstruction provisions, regardless of changes in emission rate. Reconstruction means the replacement of components of an existing facility such that (1) the fixed capital cost of the new components exceeds 50 percent of the fixed capital cost that would be required to construct a comparable entirely new facility; and (2) it is technologically and economically feasible to meet the applicable standards (40 CFR 60.15).

VI. Clarifications on Subpart OOO

Today we are clarifying some common questions about the applicability of subpart OOO to synthetic gypsum, sodium carbonate, lime, and activated carbon. Synthetic gypsum is a by-product of flue gas desulfurization (FGD). Synthetic gypsum has the same chemical composition as natural gypsum and is used in many of the same products as natural gypsum (e.g., gypsum wallboard). We have concluded in prior applicability determinations, and wish to clarify today, that synthetic gypsum is considered to be a “nonmetallic mineral” as defined in subpart OOO and plants that crush or grind synthetic gypsum meet the subpart OOO definition of “nonmetallic mineral processing plant.” Electric utilities operating FGD systems use limestone or lime in the FGD systems to capture sulfur dioxide emissions and convert the mineral material into synthetic gypsum. Some utilities may use sodium carbonate as an additive in FGD systems. Limestone and sodium carbonate are included in the subpart OOO definition of “nonmetallic mineral.” Lime, however, is not included in the definition of “nonmetallic mineral” because processing of lime (which is manufactured by the high temperature calcination of limestone) is subject to a separate NSPS (NSPS subpart HH for Lime Manufacturing). Therefore, we wish to clarify that crushing or grinding of lime does not subject plants to subpart OOO. However, electric utilities (or other types of plants) that crush or grind limestone or sodium carbonate meet the subpart OOO definition of “nonmetallic mineral processing plant.” Electric utilities (or other types of plants) that handle, but do not crush or grind, the nonmetallic minerals limestone, sodium carbonate, or synthetic gypsum do not meet the definition of “nonmetallic mineral processing plant.”

Activated carbon is also used by some utilities for emissions control applications. Activated carbon is not included in the definition of “nonmetallic mineral” under subpart OOO. Thus, we are clarifying that processing of activated carbon is not subject to subpart OOO.

VII. Summary of Cost, Environmental, Energy, and Economic Impacts of Proposed Amendments to Subpart OOO

In setting standards, the CAA requires us to consider alternative emission control approaches, taking into account the estimated costs as well as impacts on energy, solid waste, and other effects. We request comment on whether we have identified the appropriate alternatives and whether these proposed standards adequately take into consideration the incremental effects in terms of emission reductions, energy, and other effects of these alternatives. We will consider the available information in developing the final rule.

A. What are the impacts for NMPP?

We are presenting estimates of the impacts for these proposed amendments to 40 CFR part 60, subpart OOO that change the performance standards. The cost, environmental, and economic impacts presented in this section are expressed as incremental differences between the impacts of NMPP complying with the proposed subpart OOO revisions and the current NSPS requirements of subpart OOO (i.e., baseline). The impacts are presented for future NMPP affected facilities that commence construction, reconstruction, or modification over the 5 years following promulgation of the revised NSPS. The analyses and the documents referenced below can be found in Docket ID No. EPA-HQ-OAR-2007-1018.

In order to determine the incremental impacts of this proposed rule, we first estimated that 332 new NMPP would comply with subpart OOO in the 5 years following promulgation. For further detail on the methodology of these calculations, see Docket ID No. EPA-HQ-OAR-2007-1018.

The proposed revisions to the subpart OOO emission limits for future affected facilities do not reflect use of any new or different control technologies, but are an adjustment of the limits to better reflect the performance of current (baseline) control technologies. There is no difference in the control systems used to meet baseline and those that would be used to meet these proposed revised emission limits for future affected facilities. Therefore, there would be no difference in control costs, water or solid waste impacts, or actual emission reductions achieved as a result of these proposed revisions to the emission limits for future affected facilities. As stated previously, the effect of reducing the emission limits would be to ensure that the typical performance of today's control systems is achieved for future affected facilities and that controls with marginal performance are not installed in the future. The potential nationwide emission reduction (the nationwide emission reduction associated with lowering the PM limit from 0.022 to 0.014 gr/dscf) could be as much as 120 megagrams per year (Mg/yr) (130 tpy) PM. These potential emission reductions are overestimated because the majority of control systems installed on future affected facilities would likely have resulted in emissions at or below the proposed emission limits even in the absence of these proposed revisions.

Unlike for control costs and emissions reductions, there are differences in notification, testing, monitoring, reporting, and recordkeeping (MRR) costs between baseline and these proposed revisions to subpart OOO. We are proposing some amendments to subpart OOO that would reduce costs and other amendments that would increase costs for future affected facilities. We estimate that the increase in nationwide annual cost associated with these proposed revisions, including annualized capital costs associated with performance testing, is about $630,000. The potential emissions reductions associated with these proposed MRR revisions are estimated to be 330 Mg/yr (370 tpy) due to the shortened duration that excess emissions could occur before being corrected under these proposed testing and monitoring revisions.

The estimated nationwide 5-year incremental emissions reductions and cost impacts for these proposed amendments are summarized in Table 2 of this preamble. The overall cost-effectiveness is about $1,300 per ton of PM potentially removed. We estimate that 6 percent (or 28 Mg/yr (25 tpy)) of the potential reduction in PM shown in Table 2 is PM less than 2.5 microns in diameter (PM2.5).

Table 2.—National Incremental Emission Reductions and Cost Impacts for NMPP Subject to Proposed Standards Under 40 CFR Part 60, Subpart OOO (Fifth Year After Promulgation)
Proposed revisions for future affected facilities | Total capital cost ($1,000) | Total annual cost ($1,000/yr) | Potential annual emission reductions (tons/yr) | Potential cost-effectiveness ($/ton)
Revisions to emission limits | 0 | 0 | 130 | 0
Revisions to MRR requirements | (1,800) | 630 | 370 | 1,700
Total | (1,800) | 630 | 500 | 1,300
(Negative numbers appear in parentheses. There is a negative capital cost because we are proposing to reduce the costs of initial testing requirements by (a) allowing a 30-minute Method 9 test instead of a 1-hour test for fugitive affected facilities; and (b) by omitting the 7 percent stack opacity limit and associated initial testing from subpart OOO.)

B. What are the secondary impacts?

Indirect or secondary air quality impacts are impacts that would result from the increased electricity usage associated with the operation of control devices (i.e., increased secondary emissions of criteria pollutants from power plants). Energy impacts consist of the electricity and steam needed to operate control devices and other equipment that would be required under this proposed rule. These proposed revisions would not result in any secondary air impacts or increase in overall energy demand because there would be no incremental difference in the control systems used to comply with these revisions.

C. What are the economic impacts?

We performed an economic impact analysis that estimates changes in prices and output for nonmetallic minerals nationally using the annual compliance costs estimated for this proposed rule. All estimates are for the fifth year after promulgation since this is the year for which the compliance cost impacts are estimated. The impacts to producers and consumers affected by this proposed rule are very slightly higher product prices and outputs. Prices for products (processed minerals) from affected plants should increase by less than 0.1 percent for the fifth year. The output of processed minerals should be affected by less than 0.1 percent for the fifth year. Hence, the overall economic impact of this proposed NSPS on the affected industries and their consumers should be negligible. For more information, please refer to the economic impact analysis for this proposed rulemaking that is in the public docket.

VIII. Proposed Amendment to Subpart UUU Applicability

As part of this Federal Register notice, we are requesting comments on the applicability of subpart UUU to sand reclamation processes at metal foundries. Metal foundries use industrial sand (containing organic binders and/or clay) to form the molds and cores used to shape metal parts. Some metal foundries operate thermal foundry sand reclamation units that are sed to remove and destroy the solid remains of core/mold binder materials from the sand grains. These thermal sand reclamation units are processing industrial sand, a mineral listed in the definition of “mineral processing plant” in subpart UUU.

To date, Subpart UUU has applied to iron and steel foundries as supported by multiple applicability determinations issued by the Agency beginning in 1993.¹ Most recently, the Agency has issued applicability determinations in 2003 and 2004.² Abstracts of these determinations were published in the Federal Register on July 8, 2004 (69 FR 41256) and October 31, 2005 (70 FR 62304). We concluded that calciners and dryers used in sand reclamation process at foundries were affected sources subject to subpart UUU.

¹ See Letter from John Rasnic, Director, Stationary Source Compliance Branch, Office of Air Quality Planning and Standards, U.S. EPA to Dieter Liedel, Tanoak Enterprises Inc., March 25, 1993.

² See Letter from Michael Alushin, Director, Compliance Assessment and Media Programs Division, Office of Compliance, U.S. EPA to Gary Mosher, Vice President of Environmental Health and Safety, American Foundry Society, October 28, 2003, and Letter from Michael Alushin, Director, Compliance Assessment and Media Programs Division, Office of Compliance, U.S. EPA to Gary Mosher, Vice President of Environmental Health and Safety, American Foundry Society, April 24, 2004.

Some State permitting authorities have referred to our applicability determinations in deciding applicability of subpart UUU to thermal reclamation units in their states, while other States may not have considered the possibility of subpart UUU applying to thermal sand reclamation units. We believe the result has been inconsistent application of subpart UUU to equipment at foundries across the U.S. with only a few foundries having equipment that are currently subject to the requirements of subpart UUU. Most states for which we reviewed thermal foundry sand reclamation unit permits have not considered subpart UUU to be applicable to thermal sand reclamation units.

The preambles to the proposed and promulgated rules for subpart UUU provided detailed descriptions of the mineral industries to be regulated by subpart UUU. The preamble to the proposed rule identified the six source categories listed in the NSPS priority list that are covered by subpart UUU. The proposal preamble also explicitly listed two industries (roofing granules and magnesium compounds) that are covered by subpart UUU but not included in the Nonmetallic Mineral Processing or Metallic Mineral Processing source categories, Numbers 13 and 14 on the NSPS priority list, respectively. Foundries, Number 17 on the priority list, was not listed for inclusion in subpart UUU. An identical listing of the subpart UUU source categories was also contained in the promulgation preamble. The foundry industry is not discussed in Background Information Documents or in the enabling document for subpart UUU. Equipment at metal foundries was not the subject of our regulatory analyses when subpart UUU was developed. Thus, there was no economic impact evaluation of subpart UUU on the foundry sand industry.

Recently, we evaluated the types of equipment used to reclaim industrial sand at metal foundries. There are over 2,000 foundries in the U.S. Only a small number of these foundries find it economical to use thermal sand reclamation units to remove the binder from the spent industrial sand.

We reviewed the types of foundry sand thermal reclamation units commercially available today and permits for some foundries operating thermal reclamation units. Thermal foundry sand reclamation units differ from equipment used at subpart UUU industrial sand processing facilities in a number of ways. Differences between thermal sand reclamation units and industrial sand dryers include: equipment size, throughput, operating temperature, emissions potential, and overall emissions control strategy.

Based on the preceding discussion, we are proposing to amend § 60.730(b) to state that “processes for thermal reclamation of industrial sand at metal foundries” are not subject to the provisions of subpart UUU. Today's request for comments on subpart UUU is not an NSPS review pursuant to section 111(b)(1)(B) of the CAA.

IX. Statutory and Executive Order Reviews

A. Executive Order 12866: Regulatory Planning and Review

Under Executive Order 12866 (58 FR 51735, October 4, 1993), this proposed action is a “significant regulatory action” because it may raise novel legal or policy issues. Accordingly, EPA submitted this action to the Office of Management and Budget (OMB) for review under Executive Order 12866, and any changes made in response to OMB recommendations have been documented in the docket for this action.

B. Paperwork Reduction Act

The information collection requirements in this proposed rule have been submitted for approval to the OMB under the Paperwork Reduction Act, 44 U.S.C. 3501 et seq. The Information Collection Request (ICR) document prepared by EPA has been assigned EPA ICR number 1084.09.

These proposed amendments to the existing standards of performance for Nonmetallic Mineral Processing Plants would add repeat testing and monitoring requirements for future affected facilities while eliminating other requirements. We have revised the information collection request (ICR) for the existing rule.

These proposed amendments to the standards of performance for NMPP for existing and future affected facilities include a reduction in Method 9 test duration for fugitive emissions, exemption of wet material processing operations, and changes to simplify the notification requirements. Additional proposed revisions for future affected facilities include changes to emission limits, elimination of the stack opacity limit, and addition of repeat testing and periodic monitoring requirements. These proposed repeat testing requirements require repeat tests within 5 years from the previous performance test for selected affected facilities (e.g., fugitive affected facilities without water sprays). The monitoring requirements include periodic inspections of water sprays and baghouse visible emissions. We have minimized the burden associated with these repeat testing and monitoring requirements by selecting longer frequencies for the requirements (e.g., repeats tests every 5 years as opposed to annually; monthly inspections of water sprays as opposed to daily, etc.); minimizing duplication of ongoing compliance measures (e.g., no repeat tests for affected facilities which have periodic monitoring); and by not specifying additional reporting requirements for the periodic inspection provisions. These requirements are based on recordkeeping and reporting requirements in the NSPS General Provisions in 40 CFR part 60, subpart A, and on specific requirements in subpart OOO which are mandatory for all operators subject to NSPS. These recordkeeping and reporting requirements are specifically authorized by section 114 of the CAA (42 U.S.C. 7414). All information submitted to EPA pursuant to the recordkeeping and reporting requirements for which a claim of confidentiality is made is safeguarded according to EPA policies set forth in 40 CFR part 2, subpart B.

The annual burden for this information collection averaged over the first 3 years of this ICR is estimated to total 11,330 labor-hours per year at a cost of $1,025,966 per year. The annualized capital costs are estimated at $154,577 per year. There are no estimated annual operation and maintenance costs. We note that information collection costs to industry are also included in the incremental cost impacts presented in section VII of this preamble. Therefore, the burden costs presented in the ICR are not additional costs incurred by sources subject to subpart OOO. Burden is defined at 5 CFR 1320.3(b).

An agency may not conduct or sponsor, and a person is not required to respond to a collection of information unless it displays a currently valid OMB control number. OMB control numbers for EPA's regulations are listed in 40 CFR part 9.

To comment on the Agency's need for this information, the accuracy of the provided burden estimates, and any suggested methods for minimizing respondent burden, EPA has established a public docket for this rule, which includes this ICR, under Docket ID number EPA-HQ-OAR-2007-1018. Submit any comments related to the ICR for this proposed rule to EPA and OMB. See ADDRESSES section at the beginning of this document for where to submit comments to EPA. Send comments to OMB at the Office of Information and Regulatory Affairs, Office of Management and Budget, 725 17th Street, NW., Washington, DC 20503, Attention: Desk Office for EPA. Since OMB is required to make a decision concerning the ICR between 30 and 60 days after April 22, 2008, a comment to OMB is best assured of having its full effect if OMB receives it by May 22, 2008. The final rule will respond to any OMB or public comments on the information collection requirements contained in this proposed rule.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of these proposed revisions to subpart OOO on small entities, small entity is defined as: (1) A small business whose parent company has no more than 500 employees, depending on the size definition for the affected NAICS code (as defined by Small Business Administration (SBA) size standards found at http://www.sba.gov/idc/groups/public/documents/sba_homepage/servsstd_tablepdf.pdf); (2) a small governmental jurisdiction that is a government of a city, county, town, school district, or special district with a population of less than 50,000; and (3) a small organization that is any not-for-profit enterprise which is independently owned and operated and is not dominant in its field.

After considering the economic impact of these proposed revisions to subpart OOO on small entities, I certify that this action will not have a significant economic impact on a substantial number of small entities. We estimate that up to 96 percent (318) of the 332 entities with projected new NMPP could potentially be classified as small entities according to the SBA small business size standards for industries identified as affected by these proposed revisions. No small entities are expected to incur an annualized compliance cost of more than 0.09 percent to comply with this proposed action. For more information, please refer to the economic impact analysis that is in the public docket for this proposed rulemaking.

Although this proposed rule would not have a significant economic impact on a substantial number of small entities, EPA nonetheless has tried to reduce the impact of this proposed action on future small entities by reducing the test duration for fugitive emissions, exempting wet material processing operations, simplifying certain notification requirements, eliminating the stack opacity limit, and selecting relatively low-cost repeat testing and monitoring provisions. In addition, certain plants operating at small capacities were exempted from subpart OOO due to economic considerations when the standards were originally developed. These proposed revisions to subpart OOO do not affect these exempted small plants; that is, they continue to be exempted from the standards.

We continue to be interested in the potential impacts of this proposed action on small entities and welcome comments on issues related to such impacts.

D. Unfunded Mandates Reform Act

Title II of the Unfunded Mandates Reform Act (UMRA) of 1995, Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or to the private sector, of $100 million or more in any one year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that this proposed action does not contain a Federal mandate that may result in expenditures of $100 million or more for State, local, and tribal governments, in the aggregate, or the private sector in any one year. As discussed earlier in this preamble, the estimated expenditures for the private sector in the fifth year after promulgation are $630 thousand. Thus, this proposed action is not subject to the requirements of section 202 and 205 of the UMRA. EPA has determined that this proposed action contains no regulatory requirements that might significantly or uniquely affect small governments. This proposed action contains no requirements that apply to such governments, imposes no obligations upon them, and would not result in expenditures by them of $100 million or more in any one year or any disproportionate impacts on them. Therefore, this proposed action is not subject to the requirements of section 203 of the UMRA.

E. Executive Order 13132: Federalism

Executive Order 13132 (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed action does not have federalism implications. It will not have substantial direct effects on the States, on the relationship between the national government and the States, or on the distribution of power and responsibilities among the various levels of government, as specified in Executive Order 13132. None of the affected facilities are owned or operated by State governments. Thus, Executive Order 13132 does not apply to this proposed action.

In the spirit of Executive Order 13132, and consistent with EPA policy to promote communications between EPA and State and local governments, EPA specifically solicits comment on this proposed action from State and local officials.

F. Executive Order 13175: Consultation and Coordination With Indian Tribal Governments

Executive Order 13175, entitled “Consultation and Coordination With Indian Tribal Governments” (65 FR 67249, November 9, 2000), requires EPA to develop an accountable process to ensure “meaningful and timely input by tribal officials in the development of regulatory policies that have tribal implications.” This proposed action does not have tribal implications, as specified in Executive Order 13175. It will not have substantial direct effects on tribal governments, on the relationship between the Federal government and Indian tribes, or on the distribution of power and responsibilities between the Federal government and Indian tribes, as specified in Executive Order 13175. This proposed rule imposes requirements on owners and operators of specified industrial facilities and not tribal governments. Thus, Executive Order 13175 does not apply to this proposed action. EPA specifically solicits additional comment on this proposed rule from tribal officials.

G. Executive Order 13045: Protection of Children From Environmental Health Risks and Safety Risks

EPA interprets Executive Order (EO) 13045 (62 FR 19885 (April 23, 1997)) as applying only to those regulatory actions that concern health or safety risks, such that the analysis required under section 5-501 of the EO has the potential to influence the regulation. This action is not subject to EO 13045 because it is based solely on technology performance.

H. Executive Order 13211: Actions Concerning Regulations That Significantly Affect Energy Supply, Distribution, or Use

This proposed rule is not a “significant energy action” as defined in Executive Order 13211, “Actions Concerning Regulations That Significantly Affect Energy Supply, Distribution, or Use” (66 FR 28355 (May 22, 2001)) because it is not likely to have a significant adverse effect on the supply, distribution, or use of energy. Further, we have concluded that this rule is not likely to have any adverse energy effects.

I. National Technology Transfer and Advancement Act

Section 12(d) of the National Technology Transfer and Advancement Act of 1995 (“NTTAA”), Public Law No. 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards (VCS).

This proposed rulemaking involves technical standards. EPA proposes to use EPA Methods 5, 5I, 9, 17, and 22, of 40 CFR 60, Appendix A. The Agency conducted a search to identify potentially applicable voluntary consensus standards. We identified no standards for Methods 9 and 22, and none were brought to our attention in comments from stakeholders during this proposed rule development. While the Agency identified five VCS as being potentially applicable to EPA Methods 5, 5I, or 17, we do not propose to use these standards in this proposed rulemaking. The use of these VCS would be impractical for the purposes of this proposed rule. See the docket for this proposed rule for the reasons for these determinations for the standards.

EPA welcomes comments on this aspect of this proposed rulemaking and, specifically, invites the public to identify potentially-applicable voluntary consensus standards and to explain why such standards should be used in this regulation.

J. Executive Order 12898: Federal Actions To Address Environmental Justice in Minority Populations and Low-Income Populations

Executive Order 12898 (59 FR 7629 (Feb. 16, 1994)) establishes Federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this proposed rule would not have disproportionately high and adverse human health or environmental effects on minority or low-income populations because it increases the level of environmental protection for all affected populations without having any disproportionately high and adverse human health or environmental effects on any population, including any minority or low-income population. This proposed rule would reduce emissions of PM from all new, reconstructed, or modified affected facilities at NMPP, decreasing the amount of such emissions to which all affected populations are exposed.

List of Subjects in 40 CFR Part 60

Environmental protection, Administrative practice and procedure, Air pollution control, Intergovernmental relations, Reporting and recordkeeping requirements.

Dated: April 16, 2008.
Stephen L. Johnson,
Administrator.

For the reasons stated in the preamble, title 40, chapter I, part 60 of the Code of Federal Regulations is proposed to be amended as follows:

PART 60—[AMENDED]

1. The authority citation for part 60 continues to read as follows:

Authority: 42 U.S.C. 7401, et seq.

Subpart OOO—[Amended]

2. Revise subpart OOO to read as follows:

Subpart OOO—Standards of Performance for Nonmetallic Mineral Processing Plants
Sec.
60.670 Applicability and designation of affected facility.
60.671 Definitions.
60.672 Standard for particulate matter (PM).
60.673 Reconstruction.
60.674 Monitoring of operations.
60.675 Test methods and procedures.
60.676 Reporting and recordkeeping.
Tables to Subpart OOO of Part 60
Table 1 to Subpart OOO—Exceptions to Applicability of Subpart A to Subpart OOO
Table 2 to Subpart OOO—Stack emission limits for affected facilities with capture systems
Table 3 to Subpart OOO—Fugitive emission limits for affected facilities without capture systems

Subpart OOO—Standards of Performance for Nonmetallic Mineral Processing Plants

§ 60.670 Applicability and designation of affected facility.

(a)(1) Except as provided in paragraphs (a)(2), (b), (c), and (d) of this section, the provisions of this subpart are applicable to the following affected facilities in fixed or portable nonmetallic mineral processing plants: each crusher, grinding mill, screening operation, bucket elevator, belt conveyor, bagging operation, storage bin, enclosed truck or railcar loading station. Also, crushers and grinding mills at hot mix asphalt facilities that reduce the size of nonmetallic minerals embedded in recycled asphalt pavement and subsequent affected facilities up to, but not including, the first storage silo or bin are subject to the provisions of this subpart.

(2) The provisions of this subpart do not apply to the following operations: All facilities located in underground mines; plants without crushers or grinding mills; and wet material processing operations (as defined in § 60.671).

(b) An affected facility that is subject to the provisions of subpart F or I of this part or that follows in the plant process any facility subject to the provisions of subparts F or I of this part is not subject to the provisions of this subpart.

(c) Facilities at the following plants are not subject to the provisions of this subpart:

(1) Fixed sand and gravel plants and crushed stone plants with capacities, as defined in § 60.671, of 23 megagrams per hour (25 tons per hour) or less;

(2) Portable sand and gravel plants and crushed stone plants with capacities, as defined in § 60.671, of 136 megagrams per hour (150 tons per hour) or less; and

(3) Common clay plants and pumice plants with capacities, as defined in § 60.671, of 9 megagrams per hour (10 tons per hour) or less.

(d)(1) When an existing facility is replaced by a piece of equipment of equal or smaller size, as defined in § 60.671, having the same function as the existing facility, and there is no increase in the amount of emissions, the new facility is exempt from the provisions of §§ 60.672, 60.674, and 60.675 except as provided for in paragraph (d)(3) of this section.

(2) An owner or operator complying with paragraph (d)(1) of this section shall submit the information required in § 60.676(a).

(3) An owner or operator replacing all existing facilities in a production line with new facilities does not qualify for the exemption described in paragraph (d)(1) of this section and must comply with the provisions of §§ 60.672, 60.674 and 60.675.

(e) An affected facility under paragraph (a) of this section that commences construction, reconstruction, or modification after August 31, 1983 is subject to the requirements of this part.

(f) Table 1 of this subpart specifies the provisions of subpart A of this part 60 that do not apply to owners and operators of affected facilities subject to this subpart or that apply with certain exceptions.

§ 60.671 Definitions.

All terms used in this subpart, but not specifically defined in this section, shall have the meaning given them in the Act and in subpart A of this part.

Bagging operation means the mechanical process by which bags are filled with nonmetallic minerals.

Belt conveyor means a conveying device that transports material from one location to another by means of an endless belt that is carried on a series of idlers and routed around a pulley at each end.

Bucket elevator means a conveying device of nonmetallic minerals consisting of a head and foot assembly which supports and drives an endless single or double strand chain or belt to which buckets are attached.

Building means any frame structure with a roof.

Capacity means the cumulative rated capacity of all initial crushers that are part of the plant.

Capture system means the equipment (including enclosures, hoods, ducts, fans, dampers, etc.) used to capture and transport particulate matter generated by one or more process operations to a control device.

Control device means the air pollution control equipment used to reduce particulate matter emissions released to the atmosphere from one or more process operations at a nonmetallic mineral processing plant.

Conveying system means a device for transporting materials from one piece of equipment or location to another location within a plant. Conveying systems include but are not limited to the following: Feeders, belt conveyors, bucket elevators and pneumatic systems.

Crush or Crushing means to reduce the size of nonmetallic mineral material by means of physical impaction of the crusher or grinding mill upon the material.

Crusher means a machine used to crush any nonmetallic minerals, and includes, but is not limited to, the following types: jaw, gyratory, cone, roll, rod mill, hammermill, and impactor.

Enclosed truck or railcar loading station means that portion of a nonmetallic mineral processing plant where nonmetallic minerals are loaded by an enclosed conveying system into enclosed trucks or railcars.

Fixed plant means any nonmetallic mineral processing plant at which the processing equipment specified in § 60.670(a) is attached by a cable, chain, turnbuckle, bolt or other means (except electrical connections) to any anchor, slab, or structure including bedrock.

Fugitive emission means particulate matter that is not collected by a capture system and is released to the atmosphere at the point of generation.

Grinding mill means a machine used for the wet or dry fine crushing of any nonmetallic mineral. Grinding mills include, but are not limited to, the following types: hammer, roller, rod, pebble and ball, and fluid energy. The grinding mill includes the air conveying system, air separator, or air classifier, where such systems are used.

Initial crusher means any crusher into which nonmetallic minerals can be fed without prior crushing in the plant.

Nonmetallic mineral means any of the following minerals or any mixture of which the majority is any of the following minerals:

(1) Crushed and Broken Stone, including Limestone, Dolomite, Granite, Traprock, Sandstone, Quartz, Quartzite, Marl, Marble, Slate, Shale, Oil Shale, and Shell.

(2) Sand and Gravel.

(3) Clay including Kaolin, Fireclay, Bentonite, Fuller's Earth, Ball Clay, and Common Clay.

(4) Rock Salt.

(5) Gypsum.

(6) Sodium Compounds, including Sodium Carbonate, Sodium Chloride, and Sodium Sulfate.

(7) Pumice.

(8) Gilsonite.

(9) Talc and Pyrophyllite.

(10) Boron, including Borax, Kernite, and Colemanite.

(11) Barite.

(12) Fluorospar.

(13) Feldspar.

(14) Diatomite.

(15) Perlite.

(16) Vermiculite.

(17) Mica.

(18) Kyanite, including Andalusite, Sillimanite, Topaz, and Dumortierite.

Nonmetallic mineral processing plant means any combination of equipment that is used to crush or grind any nonmetallic mineral wherever located, including lime plants, power plants, steel mills, asphalt concrete plants, portland cement plants, or any other facility processing nonmetallic minerals except as provided in § 60.670(b) and (c).

Portable plant means any nonmetallic mineral processing plant that is mounted on any chassis or skids and may be moved by the application of a lifting or pulling force. In addition, there shall be no cable, chain, turnbuckle, bolt or other means (except electrical connections) by which any piece of equipment is attached or clamped to any anchor, slab, or structure, including bedrock that must be removed prior to the application of a lifting or pulling force for the purpose of transporting the unit.

Production line means all affected facilities (crushers, grinding mills, screening operations, bucket elevators, belt conveyors, bagging operations, storage bins, and enclosed truck and railcar loading stations) which are directly connected or are connected together by a conveying system.

Saturated material means, for purposes of this subpart, mineral material with sufficient surface moisture such that particulate matter emissions are not generated from processing of the material though screening operations, bucket elevators and belt conveyors. Material that is wetted solely by wet suppression systems is not considered to be “saturated” for purposes of this definition.

Seasonal shut down means shut down of an affected facility for a period of at least 45 consecutive days due to seasonal market conditions.

Screening operation means a device for separating material according to size by passing undersize material through one or more mesh surfaces (screens) in series, and retaining oversize material on the mesh surfaces (screens). Grizzly feeders associated with truck dumping and static (non-moving) grizzlies used anywhere in the nonmetallic mineral processing plant are not considered to be screening operations.

Size means the rated capacity in tons per hour of a crusher, grinding mill, bucket elevator, bagging operation, or enclosed truck or railcar loading station; the total surface area of the top screen of a screening operation; the width of a conveyor belt; and the rated capacity in tons of a storage bin.

Stack emission means the particulate matter that is released to the atmosphere from a capture system.

Storage bin means a facility for storage (including surge bins) or nonmetallic minerals prior to further processing or loading.

Transfer point means a point in a conveying operation where the nonmetallic mineral is transferred to or from a belt conveyor except where the nonmetallic mineral is being transferred to a stockpile.

Truck dumping means the unloading of nonmetallic minerals from movable vehicles designed to transport nonmetallic minerals from one location to another. Movable vehicles include but are not limited to: trucks, front end loaders, skip hoists, and railcars.

Vent means an opening through which there is mechanically induced air flow for the purpose of exhausting from a building air carrying particulate matter emissions from one or more affected facilities.

Wet material processing operation(s) means any of the following:

(1) Wet screening operations (as defined in this section) and subsequent screening operations, bucket elevators and belt conveyors in the production line that process saturated materials (as defined in this section) up to the first crusher, grinding mill or storage bin in the production line; or

(2) Screening operations, bucket elevators and belt conveyors in the production line downstream of wet mining operations (as defined in this section) that process saturated materials (as defined in this section) up to the first crusher, grinding mill or storage bin in the production line.

Wet mining operation means a mining or dredging operation designed and operated to extract any nonmetallic mineral regulated under this subpart from deposits existing at or below the water table, where the nonmetallic mineral is saturated with water.

Wet screening operation means a screening operation at a nonmetallic mineral processing plant which removes unwanted material or which separates marketable fines from the product by a washing process which is designed and operated at all times such that the product is saturated with water.

§ 60.672 Standard for particulate matter (PM).

(a) You must meet the stack emission limits and compliance requirements in Table 2 of this subpart within 60 days after achieving the maximum production rate at which the affected facility will be operated, but not later than 180 days after initial startup as required under § 60.8. The requirements in Table 2 apply for affected facilities with capture systems.

(b) You must meet the fugitive emission limits and compliance requirements in Table 3 of this subpart within 60 days after achieving the maximum production rate at which the affected facility will be operated, but not later than 180 days after initial startup as required under § 60.11. The requirements in Table 3 apply for fugitive emissions from affected facilities without capture systems.

(c) [RESERVED]

(d) Truck dumping of nonmetallic minerals into any screening operation, feed hopper, or crusher is exempt from the requirements of this section.

(e) If any transfer point on a conveyor belt or any other affected facility is enclosed in a building, then each enclosed affected facility must comply with the emission limits in paragraphs (a) and (b) of this section, or the building enclosing the affected facility or facilities must comply with the following emission limits:

(1) Fugitive emissions from the building openings (except for vents as defined in § 60.671) must not exceed 7 percent opacity; and

(2) Vents (as defined in § 60.671) in the building must meet the applicable stack emission limits and compliance requirements in Table 2 of this subpart.

(f) Any baghouse that controls emissions from only an individual, enclosed storage bin is exempt from the applicable stack PM concentration limit (and associated performance testing) in Table 2 of this subpart but must meet the applicable stack opacity limit and compliance requirements in Table 2 of this subpart. Owners or operators of multiple storage bins with combined stack emissions must meet both the applicable PM concentration and opacity limits (and associated compliance requirements) in Table 2 of this subpart.

§ 60.673 Reconstruction.

(a) The cost of replacement of ore-contact surfaces on processing equipment shall not be considered in calculating either the “fixed capital cost of the new components” or the “fixed capital cost that would be required to construct a comparable new facility” under § 60.15. Ore-contact surfaces are crushing surfaces; screen meshes, bars, and plates; conveyor belts; and elevator buckets.

(b) Under § 60.15, the “fixed capital cost of the new components” includes the fixed capital cost of all depreciable components (except components specified in paragraph (a) of this section) which are or will be replaced pursuant to all continuous programs of component replacement commenced within any 2-year period following August 31, 1983.

§ 60.674 Monitoring of operations.

(a) The owner or operator of any affected facility subject to the provisions of this subpart which uses a wet scrubber to control emissions shall install, calibrate, maintain and operate the following monitoring devices:

(1) A device for the continuous measurement of the pressure loss of the gas stream through the scrubber. The monitoring device must be certified by the manufacturer to be accurate within ±250 pascals ±1 inch water gauge pressure and must be calibrated on an annual basis in accordance with manufacturer's instructions.

(2) A device for the continuous measurement of the scrubbing liquid flow rate to the wet scrubber. The monitoring device must be certified by the manufacturer to be accurate within ±5 percent of design scrubbing liquid flow rate and must be calibrated on an annual basis in accordance with manufacturer's instructions.

(b) The owner or operator of any affected facility installed after April 22, 2008 that uses wet suppression to control emissions from an affected facility must perform monthly periodic inspections to check that water is flowing to discharge spray nozzles in the wet suppression system. You must initiate corrective action within 24 hours if you find that water is not flowing properly during an inspection of the water spray nozzles. You must record each inspection of the water spray nozzles, including the date of each inspection and any corrective actions taken, in the logbook required under § 60.676(b).

(c) Except as specified in paragraph (d) of this section, the owner or operator of any affected facility installed after April 22, 2008 that uses a baghouse to control emissions must conduct a quarterly 30-minute visible emissions inspection using EPA Method 22 (40 CFR part 60, Appendix A-7). The Method 22 (40 CFR part 60, Appendix A-7) test shall be conducted while the baghouse is operating. The test is successful if no visible emissions are observed. If any visible emissions are observed, you must initiate corrective action within 24 hours to return the baghouse to normal operation. You must record each Method 22 (40 CFR part 60, Appendix A-7) test, including the date and any corrective actions taken, in the logbook required under § 60.676(b). If necessary, you may establish a different baghouse-specific success level for the visible emissions test (other than no visible emissions) by conducting a PM performance test according to § 60.675(b) simultaneously with a Method 22 (40 CFR part 60, Appendix A-7) test to determine what constitutes normal visible emissions from your baghouse when it is in compliance with the applicable PM concentration limit in Table 2 of this subpart. The revised visible emissions success level must be incorporated into your permit.

(d) As an alternative to the periodic Method 22 (40 CFR part 60, Appendix A-7) visible emissions inspections specified in paragraph (c) of this section, the owner or operator of any affected facility installed after April 22, 2008 that uses a baghouse to control emissions may use a bag leak detection system. You must install, operate, and maintain the bag leak detection system according to paragraphs (d)(1) through (3) of this section.

(1) Each bag leak detection system must meet the specifications and requirements in paragraphs (d)(1)(i) through (viii) of this section.

(i) The bag leak detection system must be certified by the manufacturer to be capable of detecting PM emissions at concentrations of 1 milligram per dry standard cubic meter (0.00044 grains per actual cubic foot) or less.

(ii) The bag leak detection system sensor must provide output of relative PM loadings. The owner or operator shall continuously record the output from the bag leak detection system using electronic or other means (e.g., using a strip chart recorder or a data logger).

(iii) The bag leak detection system must be equipped with an alarm system that will sound when the system detects an increase in relative particulate loading over the alarm set point established according to paragraph (d)(1)(iv) of this section, and the alarm must be located such that it can be heard by the appropriate plant personnel.

(iv) In the initial adjustment of the bag leak detection system, you must establish, at a minimum, the baseline output by adjusting the sensitivity (range) and the averaging period of the device, the alarm set points, and the alarm delay time.

(v) Following initial adjustment, you shall not adjust the averaging period, alarm set point, or alarm delay time without approval from the Administrator or delegated authority except as provided in paragraph (d)(1)(vi) of this section.

(vi) Once per quarter, you may adjust the sensitivity of the bag leak detection system to account for seasonal effects, including temperature and humidity, according to the procedures identified in the site-specific monitoring plan required by paragraph (d)(2) of this section.

(vii) You must install the bag leak detection sensor downstream of the fabric filter.

(viii) Where multiple detectors are required, the system's instrumentation and alarm may be shared among detectors.

(2) You must develop and submit to the Administrator or delegated authority for approval a site-specific monitoring plan for each bag leak detection system. You must operate and maintain the bag leak detection system according to the site-specific monitoring plan at all times. Each monitoring plan must describe the items in paragraphs (d)(2)(i) through (vi) of this section.

(i) Installation of the bag leak detection system;

(ii) Initial and periodic adjustment of the bag leak detection system, including how the alarm set-point will be established;

(iii) Operation of the bag leak detection system, including quality assurance procedures;

(iv) How the bag leak detection system will be maintained, including a routine maintenance schedule and spare parts inventory list;

(v) How the bag leak detection system output will be recorded and stored; and

(vi) Corrective action procedures as specified in paragraph (d)(3) of this section. In approving the site-specific monitoring plan, the Administrator or delegated authority may allow owners and operators more than 3 hours to alleviate a specific condition that causes an alarm if the owner or operator identifies in the monitoring plan this specific condition as one that could lead to an alarm, adequately explains why it is not feasible to alleviate this condition within 3 hours of the time the alarm occurs, and demonstrates that the requested time will ensure alleviation of this condition as expeditiously as practicable.

(3) For each bag leak detection system, you must initiate procedures to determine the cause of every alarm within 1 hour of the alarm. Except as provided in paragraph (d)(2)(vi) of this section, you must alleviate the cause of the alarm within 3 hours of the alarm by taking whatever corrective action(s) are necessary. Corrective actions may include, but are not limited to the following:

(i) Inspecting the fabric filter for air leaks, torn or broken bags or filter media, or any other condition that may cause an increase in PM emissions;

(ii) Sealing off defective bags or filter media;

(iii) Replacing defective bags or filter media or otherwise repairing the control device;

(iv) Sealing off a defective fabric filter compartment;

(v) Cleaning the bag leak detection system probe or otherwise repairing the bag leak detection system; or

(vi) Shutting down the process producing the PM emissions.

§ 60.675 Test methods and procedures.

(a) In conducting the performance tests required in § 60.8, the owner or operator shall use as reference methods and procedures the test methods in appendices A-1 through A-7 of this part or other methods and procedures as specified in this section, except as provided in § 60.8(b). Acceptable alternative methods and procedures are given in paragraph (e) of this section.

(b) The owner or operator shall determine compliance with the PM standards in § 60.672(a) as follows:

(1) Except as specified in paragraphs (e)(3) and (4) of this section, Method 5 of Appendix A-3 of this part or Method 17 of Appendix A-6 of this part shall be used to determine the particulate matter concentration. The sample volume shall be at least 1.70 dscm (60 dscf). For Method 5 (40 CFR part 60, Appendix A-3), if the gas stream being sampled is at ambient temperature, the sampling probe and filter may be operated without heaters. If the gas stream is above ambient temperature, the sampling probe and filter may be operated at a temperature high enough, but no higher than 121 °C (250 °F), to prevent water condensation on the filter.

(2) Method 9 of Appendix A-4 of this part and the procedures in § 60.11 shall be used to determine opacity.

(c)(1) In determining compliance with the particulate matter standards in § 60.672(b) or § 60.672(e)(1), the owner or operator shall use Method 9 of Appendix A-4 of this part and the procedures in § 60.11, with the following additions:

(i) The minimum distance between the observer and the emission source shall be 4.57 meters (15 feet).

(ii) The observer shall, when possible, select a position that minimizes interference from other fugitive emission sources (e.g., road dust). The required observer position relative to the sun (Method 9 of Appendix A-4 of this part, Section 2.1) must be followed.

(iii) For affected facilities using wet dust suppression for particulate matter control, a visible mist is sometimes generated by the spray. The water mist must not be confused with particulate matter emissions and is not to be considered a visible emission. When a water mist of this nature is present, the observation of emissions is to be made at a point in the plume where the mist is no longer visible.

(2)(i) In determining compliance with the opacity of stack emissions from any baghouse that controls emissions only from an individual enclosed storage bin under § 60.672(f) of this subpart, using Method 9 (40 CFR part 60, Appendix A-4), the duration of the Method 9 (40 CFR part 60, Appendix A-4) observations shall be 1 hour (ten 6-minute averages).

(ii) The duration of the Method 9 (40 CFR part 60, Appendix A-4) observations may be reduced to the duration the affected facility operates (but not less than 30 minutes) for baghouses that control storage bins or enclosed truck or railcar loading stations that operate for less than 1 hour at a time.

(3) When determining compliance with the fugitive emissions standard for any affected facility described under § 60.672(b) or § 60.672(e)(1) of this subpart, the duration of the Method 9 (40 CFR part 60, Appendix A-4) observations must be 30 minutes (five 6-minute averages). Compliance with the applicable fugitive emission limits in Table 3 of this subpart must be based on the average of the five 6-minute averages.

(d) To demonstrate compliance with the fugitive emission limits for buildings specified in § 60.672(e)(1), you must complete the testing specified in paragraph (d)(1) and (2) of this section. Performance tests must be conducted while all affected facilities inside the building are operating.

(1) If your building encloses any affected facility that commences construction, modification, or reconstruction on or after April 22, 2008, you must conduct an initial Method 9 (40 CFR part 60, Appendix A-4) performance test according to this section and § 60.11. You must conduct a repeat Method 9 (40 CFR part 60, Appendix A-4) performance test to demonstrate compliance with the opacity limit within 5 years from the previous performance test.

(2) If your building encloses only affected facilities that commenced construction, modification, or reconstruction before April 22, 2008 and you have previously conducted an initial Method 22 (40 CFR part 60, Appendix A-7) performance test showing zero visible emissions, then you have demonstrated compliance with the opacity limit in § 60.672(e)(1). If you have not conducted an initial performance test for your building before April 22, 2008, then you must conduct an initial Method 9 (40 CFR part 60, Appendix A-4) performance test according to this section and § 60.11 to show compliance with the opacity limit in § 60.672(e)(1).

(e) The owner or operator may use the following as alternatives to the reference methods and procedures specified in this section:

(1) For the method and procedure of paragraph (c) of this section, if emissions from two or more facilities continuously interfere so that the opacity of fugitive emissions from an individual affected facility cannot be read, either of the following procedures may be used:

(i) Use for the combined emissions stream the highest fugitive opacity standard applicable to any of the individual affected facilities contributing to the emissions stream.

(ii) Separate the emissions so that the opacity of emissions from each affected facility can be read.

(2) A single visible emission observer may conduct visible emission observations for up to three fugitive, stack, or vent emission points within a 15-second interval if the following conditions are met:

(i) No more than three emission points may be read concurrently.

(ii) All three emission points must be within a 70 degree viewing sector or angle in front of the observer such that the proper sun position can be maintained for all three points.

(iii) If an opacity reading for any one of the three emission points is within 5 percent opacity from the applicable standard (excluding readings of zero opacity), then the observer must stop taking readings for the other two points and continue reading just that single point.

(3) Method 5I of Appendix A-3 of this part may be used to determine the PM concentration as an alternative to the methods specified in paragraph (b)(1) of this section. Method 5I (40 CFR part 60, Appendix A-3) may be useful for affected facilities that operate for less than 1 hour at a time such as (but not limited to) storage bins or enclosed truck or railcar loading stations.

(4) In some cases, velocities of exhaust gases from building vents may be too low to measure accurately with the type S pitot tube specified in EPA Method 2 of Appendix A-1 of this part [i.e., velocity head <1.3 mm H2O (0.05 in. H2O)] and referred to in EPA Method 5 of Appendix A-3 of this part. For these conditions, you may determine the average gas flow rate produced by the power fans (e.g., from vendor-supplied fan curves) to the building vent. You may calculate the average gas velocity at the building vent measurement site using Equation 1 of this section and use this average velocity in determining and maintaining isokinetic sampling rates.

Where:

ve = average building vent velocity (feet per minute)

Qf = average fan flow rate (cubic feet per minute)

Ae = area of building vent and measurement location (square feet)

(f) To comply with § 60.676(d), the owner or operator shall record the measurements as required in § 60.676(c) using the monitoring devices in § 60.674(a)(1) and (2) during each particulate matter run and shall determine the averages.

(g) For performance tests involving only Method 9 (40 CFR part 60 Appendix A-4) testing, you may reduce the 30-day advance notification of performance test in § 60.7(a)(6) and 60.8(d) to a 7-day advance notification.

(h) [Reserved]

(i) If the initial performance test date for an affected facility falls during a seasonal shut down (as defined in § 60.671 of this subpart) of the affected facility, then with approval from your permitting authority, you may postpone the initial performance test until no later than 60 calendar days after resuming operation of the affected facility.

§ 60.676 Reporting and recordkeeping.

(a) Each owner or operator seeking to comply with § 60.670(d) shall submit to the Administrator the following information about the existing facility being replaced and the replacement piece of equipment.

(1) For a crusher, grinding mill, bucket elevator, bagging operation, or enclosed truck or railcar loading station:

(i) The rated capacity in megagrams or tons per hour of the existing facility being replaced and

(ii) The rated capacity in tons per hour of the replacement equipment.

(2) For a screening operation:

(i) The total surface area of the top screen of the existing screening operation being replaced and

(ii) The total surface area of the top screen of the replacement screening operation.

(3) For a conveyor belt:

(i) The width of the existing belt being replaced and

(ii) The width of the replacement conveyor belt.

(4) For a storage bin:

(i) The rated capacity in megagrams or tons of the existing storage bin being replaced and

(ii) The rated capacity in megagrams or tons of replacement storage bins.

(b)(1) Affected facilities (as defined in §§ 60.670 and 60.671) installed after April 22, 2008 must record each periodic inspection required under § 60.674(b) or (c), including dates and any corrective actions taken, in a logbook (in written or electronic format). You must keep the logbook onsite and make the logbook available to the Administrator upon request.

(2) For each bag leak detection system installed and operated according to § 60.674(d), you must keep the records specified in paragraphs (b)(2)(i) through (iii) of this section.

(i) Records of the bag leak detection system output;

(ii) Records of bag leak detection system adjustments, including the date and time of the adjustment, the initial bag leak detection system settings, and the final bag leak detection system settings; and

(iii) The date and time of all bag leak detection system alarms, the time that procedures to determine the cause of the alarm were initiated, the cause of the alarm, an explanation of the actions taken, the date and time the cause of the alarm was alleviated, and whether the alarm was alleviated within 3 hours of the alarm.

(c) During the initial performance test of a wet scrubber, and daily thereafter, the owner or operator shall record the measurements of both the change in pressure of the gas stream across the scrubber and the scrubbing liquid flow rate.

(d) After the initial performance test of a wet scrubber, the owner or operator shall submit semiannual reports to the Administrator of occurrences when the measurements of the scrubber pressure loss and liquid flow rate decrease by more than 30 percent from the average determined during the most recent performance test.

(e) The reports required under paragraph (d) of this section shall be postmarked within 30 days following end of the second and fourth calendar quarters.

(f) The owner or operator of any affected facility shall submit written reports of the results of all performance tests conducted to demonstrate compliance with the standards set forth in § 60.672 of this subpart, including reports of opacity observations made using Method 9 (40 CFR part 60, Appendix A-4) to demonstrate compliance with § 60.672(b), (e) and (f).

(g) The owner or operator of any wet material processing operation that processes saturated and subsequently processes unsaturated materials, shall submit a report of this change within 30 days following such change. This screening operation, bucket elevator, or belt conveyor is then subject to the applicable opacity limit in § 60.672(b) and the emission test requirements of § 60.11.

(h) The subpart A requirement under § 60.7(a)(1) for notification of the date construction or reconstruction commenced is waived for affected facilities under this subpart.

(i) A notification of the actual date of initial startup of each affected facility shall be submitted to the Administrator.

(1) For a combination of affected facilities in a production line that begin actual initial startup on the same day, a single notification of startup may be submitted by the owner or operator to the Administrator. The notification shall be postmarked within 15 days after such date and shall include a description of each affected facility, equipment manufacturer, and serial number of the equipment, if available.

(2) For portable aggregate processing plants, the notification of the actual date of initial startup shall include both the home office and the current address or location of the portable plant.

(j) The requirements of this section remain in force until and unless the Agency, in delegating enforcement authority to a State under section 111(c) of the Act, approves reporting requirements or an alternative means of compliance surveillance adopted by such States. In that event, affected facilities within the State will be relieved of the obligation to comply with the reporting requirements of this section, provided that they comply with requirements established by the State.

(k) Notifications and reports required under this subpart and under subpart A of this part to demonstrate compliance with this subpart need only to be sent to the EPA Region or the State which has been delegated authority according to § 60.4(b).

Table 1 to Subpart OOO.—Exceptions to Applicability of Subpart A to Subpart OOO
Subpart A reference | Applies to subpart OOO | Comment
60.4, Address | Yes | Except in § 60.4 (a) and (b) submittals need not be submitted to both the EPA Region and delegated State authority (§ 60.676(k)).
60.7, Notification and recordkeeping | Yes | Except in (a)(1) notification of the date construction or reconstruction commenced (§ 60.676(h)). Also, except in (a)(6) performance tests involving only Method 9 (40 CFR part 60, Appendix A-4) require a 7-day advance notification instead of 30 days (§ 60.675(g)).
60.8, Performance tests | Yes | Except in (d) performance tests involving only Method 9 (40 CFR part 60, Appendix A-4) require a 7-day advance notification instead of 30 days (§ 60.675(g)).
60.11, Compliance with standards and maintenance requirements | Yes | Except in (b) under certain conditions (§§ 60.675(c)), Method 9 (40 CFR part 60, Appendix A-4) observation is reduced from 3 hours to 30 minutes for fugitive affected facilities.
60.18, General control device | No | Flares will not be used to comply with the emission limits.

Table 2 to Subpart OOO.—Stack Emission Limits for Affected Facilities With Capture Systems
For . . . | You must meet a PM limit of . . . | And you must meet an opacity limit of . . ., | You must demonstrate compliance with these limits by conducting . . .
Affected facilities (as defined in §§ 60.670 and 60.671) that commence construction, reconstruction, or modification after August 31, 1983 but before April 22, 2008 | 0.05 g/dscm (0.022 gr/dscf) ᵃ | 7 percent for dry control devices ᵇ | An initial performance test according to § 60.8 of this part and § 60.675 of this subpart; and Monitoring of wet scrubber parameters according to § 60.674(a) and § 60.676 (c), (d), and (e).
Affected facilities (as defined in §§ 60.670 and 60.671) that commence construction, reconstruction, or modification on or after April 22, 2008 | 0.032 g/dscm (0.014 gr/dscf) ᵃ | Not applicable (except for individual enclosed storage bins); 7 percent for dry control devices on individual enclosed storage bins; | An initial performance test according to § 60.8 of this part and § 60.675 of this subpart; and Monitoring of wet scrubber parameters according to § 60.674(a) and § 60.676(c), (d), and (e); and
|  |  | Monitoring of baghouses according to § 60.674(c) or (d) and § 60.676(b).
ᵃ Exceptions to the PM limit apply for individual enclosed storage bins and other equipment. See § 60.672 (d) through (h).
ᵇ The stack opacity limit and associated opacity testing requirements do not apply for affected facilities using wet scrubbers.

Table 3 to Subpart OOO.—Fugitive Emission Limits for Affected Facilities Without Capture Systems
For . . . | You must meet the following fugitive emissions limit for grinding mills, screening operations, bucket elevators, transfer points on belt conveyors, bagging operations, storage bins, and enclosed truck or railcar loading stations . . . | You must meet the following fugitive emissions limit for crushers . . . | You must demonstrate compliance with these limits by conducting . . .
Affected facilities (as defined in §§ 60.670 and 60.671) that commence construction, reconstruction, or modification after August 31, 1983 but before April 22, 2008 | 10 percent opacity | 15 percent opacity | An initial performance test according to § 60.11 of this part and § 60.675 of this subpart.
Affected facilities (as defined in §§60.670 and 60.671) that commence construction, reconstruction, or modification on or after April 22, 2008 | 7 percent opacity | 12 percent opacity | An initial performance test according to § 60.11 of this part and § 60.675 of this subpart; and Periodic inspections of water sprays according to § 60.674(b) and § 60.676(b); and
|  |  | A repeat performance test within 5 years from the previous performance test for fugitive affected facilities without water sprays according to § 60.11 of this part and § 60.675 of this subpart.

Subpart UUU—[Amended]

3. Section 60.730 is amended by revising paragraph (b) to read as follows:

§ 60.730 Applicability and designation of affected facility.

* * * * *

(b) An affected facility that is subject to the provisions of subpart LL of this part, Metallic Mineral Processing Plants, is not subject to the provisions of this subpart. Also, the following are not subject to the provisions of this subpart:

(1) The following processes and process units used at mineral processing plants: vertical shaft kilns in the magnesium compounds industry; the chlorination-oxidation process in the titanium dioxide industry; coating kilns, mixers, and aerators in the roofing granules industry; tunnel kilns, tunnel dryers, apron dryers, and grinding equipment that also dries the process material used in any of the 17 mineral industries (as defined in § 60.731, “Mineral processing plant”); and

(2) Processes for thermal reclamation of industrial sand at metal foundries.

* * * * *

[FR Doc. E8-8677 Filed 4-21-08; 8:45 am]

BILLING CODE 6560-50-P